DEPARTMENT OF HEALTH AND HUMAN SERVICES

Centers for Disease Control and Prevention

[Program Announcement 04199]

Rapid Expansion of HIV/AIDS Activities by National Ivorian Nongovernmental Organizations and Associations Serving Highly Vulnerable Populations in Cote d'Ivoire Under the President's Emergency Plan for AIDS Relief; Amendment

A notice announcing the availability of fiscal year (FY) 2004 funds for cooperative agreements for Rapid Expansion of HIV/AIDS Activities by National Ivorian Nongovernmental Organizations and Associations Serving Highly Vulnerable Populations in Cote d'Ivoire Under the President's Emergency Plan for AIDS Relief was published in the Federal Register on June 1, 2004, volume 69, Number 105, pages 30922-30927.

The notice is amended as follows:

On page 30923, under “Activities: Awardee activities for this program are as follows:” please include:

For Year 1, the grantee will focus on building on existing interventions with transactional sex workers, their partners, and other vulnerable women at sites including, but not limited to: the Clinique de Confiance, Cote d'Ivoire Properite, APROSAM.”

Also on page 30923, “III.1. Eligible Applicants”, please change the first sentence to read: “Applications may be submitted by international nongovernmental organizations, including faith-based organizations, that have experience in: designing and implementing HIV/AIDS activities for Highly Vulnerable Populations in general, and transactional sex workers in particular, in Africa; capacity building for African local nongovernmental organizations and associations in developing countries (including resource mobilization and administration of funds); and understanding complexities and challenges of designing and implementing activities for HVP.”

Dated: June 25, 2004.
Alan Kotch,
Acting Director, Procurement and Grants Office, Centers for Disease Control and Prevention.

[FR Doc. 04-14938 Filed 6-30-04; 8:45 am]

BILLING CODE 4163-18-P